DEPARTMENT OF DEFENSE

Department of the Army; Corps of Engineers

Intent To Prepare a Draft Environmental Impact Statement for the Choctaw Point and Monroe Park Development Project, Located in Mobile County, Alabama

AGENCY: U.S. Army Corps of Engineers, DOD.

ACTION: Notice of intent.

SUMMARY: The Mobile District, U.S. Army Corps of Engineers, (Corps), intends to prepare a Draft Environmental Impact Statement (DEIS) to address the potential impacts associated with the Alabama State Port Authority's (ASPA) construction of a marine container terminal facility and associated intermodal distribution facilities on existing property owned by the ASPA in the Choctaw Point and Monroe Park area on Mobile Bay in the City of Mobile, Mobile County, Alabama. The Corps will be evaluating a permit application for the work under the authority of section 10 of the Rivers and Harbors Act and section 404 of the Clean Water Act. The DEIS will be used as a basis for the permit decision and to ensure compliance with the National Environmental Policy Act (NEPA).

FOR FURTHER INFORMATION CONTACT: Questions about the proposed action and the DEIS should be addressed to Mr. John B. McFadyen, Regulatory Branch, phone (251) 690-3261 or e-mail at ­john.b.mcfadyen@sam.usace.army.mil, or Dr. Susan Ivester Rees, Coastal Environment Team, phone (251) 694-4141 or e-mail at ­susan.i.rees@sam.usace.army.mil, Mobile District, U.S. Army Corps of Engineers, P.O. Box 2288, Mobile, AL 36628-0001.

SUPPLEMENTARY INFORMATION: 1. The permit applicant (Department of Army permit number AL01-0469-U) is proposing to construct container terminals, a rail intermodal yard, and distribution warehouses on existing property owned by the ASPA in the Choctaw Point and Monroe Park area of Mobile Bay, Mobile County, Alabama. The terminals will consist of piers, bulkheads, and necessary appurtenances to berth two (2) container ships up to 850 feet in length. Each dock will be equipped with cranes for loading and unloading containers. These cranes will be supported on rails laid on the dock structures. Entrance and exit gates and an administrative building will be constructed to facilitate the movement of the containers between ship, rail, and trucks. In addition to these gates, a grade separation will be provided to separate the movement of traffic between the container terminal yard and the new rail intermodal yard (to be constructed west of Choctaw Point) over the rail tracks to and from McDuffie Island. The construction of the container terminals would include about 77 acres of filled uplands and 17 acres of filled open water on the Mobile River channel. About 3,000 linear feet of bulkhead would be placed along this shoreline area. The rail intermodal yard and distribution center would be constructed upon about 187 acres of existing uplands along the north side of the Garrows Bend Basin. Over 91 acres of the uplands would be raised to elevation +12 feet NGVD. The remaining 96 acres of existing uplands would possibly require minor excavation and grading to meet this desired elevation. Additionally, fill would be placed in 44 acres of existing wetlands and 42 acres of existing open water. This fill will be placed behind a containment dike.

2. Alternatives to the applicant's proposal may exist which would reduce the impacts to the Choctaw Point and Monroe Park area of Mobile Bay. These could include alternate sites, alternative site layouts or alternative operational methods.

3. Scoping:

a. The Corps invites full public participation to promote open communication on the issues surrounding the proposal. All Federal, State, tribal governments and local agencies, and other persons or organizations that have an interest are urged to participate in the NEPA scoping process. A public meeting will be held to help identify significant issues and to receive public input and comment.

b. The DEIS will analyze the potential social, economic, and environmental impacts to the local area resulting from the proposed project. Specifically, the following major issues will be analyzed in depth in the DEIS: hydrologic and hydraulic regimes, essential fish habitat and other marine habitat, air quality, cultural resources, recreation, wastewater treatment capacities and discharges, transportation systems, alternatives, secondary and cumulative impacts, socioeconomic, environmental justice (effect on minorities and low-income groups), and protection of children (Executive Order 13045).

c. The Corps will serve as the lead Federal agency in the preparation of the DEIS. It is anticipated that the following agencies will be invited and will accept cooperating agency status for the preparation of the DEIS: U.S. Environmental Protection Agency, U.S. Department of the Interior—Fish and Wildlife Service, U.S. Department of Commerce—National Marine Fisheries Service, Alabama Department of Environmental Management, Alabama Department of Conservation and Natural Resources, Alabama State Port Authority, Alabama State Historic Preservation Officer, Alabama Department of Transportation and the City of Mobile.

4. The first scoping meeting will be held in conjunction with the DEIS for the restoration of areas adjacent to the Arlington and Garrows Bend Channels scoping meeting in February 2002 in the local area. Actual time and place for the meeting and subsequent meetings or workshops will be announced by the Mobil District by issuance of a Public Notice and/or notices in the local media.

5. It is anticipated that the DEIS will be made available for public review in October 2002.

Luz D. Ortiz,
Army Federal Register Liaison Officer.

[FR Doc. 02-1650 Filed 1-22-02; 8:45 am]

BILLING CODE 3710-CR-M